DEPARTMENT OF TRANSPORTATION

Federal Aviation Administration

14 CFR Part 39

[Docket No. 99-SW-36-AD]

Airworthiness Directives; Eurocopter France Model AS350B, BA, B1, B2, B3, D, and AS355E, F, F1, F2, and N Helicopters

AGENCY: Federal Aviation Administration, DOT.

ACTION: Notice of proposed rulemaking (NPRM).

SUMMARY: This document proposes the adoption of a new airworthiness directive (AD) that is applicable to Eurocopter France Model AS350B, BA, B1, B2, B3, D, and AS355E, F, F1, F2, and N helicopters. This proposal would require replacing certain circuit breakers. This proposal is prompted by the discovery of the loss of electrical continuity between the terminals of an installed circuit breaker. The actions specified by the proposed AD are intended to prevent loss of electrical power to the emergency flotation gear or other optional installations and subsequent loss of the helicopter emergency flotation capability.

DATES: Comments must be received on or before April 24, 2000.

ADDRESSES: Submit comments in triplicate to the Federal Aviation Administration (FAA), Office of the Regional Counsel, Southwest Region, Attention: Rules Docket No. 99-SW-36-AD, 2601 Meacham Blvd., Room 663, Fort Worth, Texas 76137. Comments may be inspected at this location between 9 a.m. and 3 p.m., Monday through Friday, except Federal holidays.

The service information referenced in the proposed rule may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas.

FOR FURTHER INFORMATION CONTACT: Carroll Wright, Aerospace Engineer, FAA, Rotorcraft Directorate, Rotorcraft Standards Staff, 2601 Meacham Blvd., Fort Worth, Texas 76137, telephone (817) 222-5120, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket No. 99-SW-36-AD.” The postcard will be date stamped and returned to the commenter.

Availability of NPRMs

Any person may obtain a copy of this NPRM by submitting a request to the FAA, Office of the Regional Counsel, Southwest Region, Attention: Rules Docket No. 99-SW-36-AD, 2601 Meacham Blvd., Room 663, Fort Worth, Texas 76137.

Discussion

The Direction Generale De L'Aviation Civile (DGAC), which is the airworthiness authority for France, notified the FAA that an unsafe condition may exist on Eurocopter France Model AS350B, BA, B1, B2, B3, D, and AS355E, F, F1, F2, and N helicopters. The DGAC advises of the loss of electrical continuity on certain single-pole circuit breakers.

Eurocopter France has issued Service Bulletin No. 01.00.44, applicable to Model AS355E, F, F1, F2, and N helicopters and Service Bulletin No. 01.00.47, applicable to Model AS350B, BA, B1, B2, B3, and D helicopters. Both service bulletins are dated November 10, 1998, and specify inspecting Crouzet single-pole circuit breakers, part number (P/N) 84 400 028 or P/N 84 400 031 through P/N 84 400 036, installed as part of the emergency flotation gear or other optional installations. The service bulletins also specify replacing any circuit breaker that is not operating properly and replacing all affected circuit breakers at the next “T” inspection or 6 months, whichever occurs first. The DGAC classified these service bulletins as mandatory and issued AD 98-510-055(A) and AD 98-511-074(A), both dated December 16, 1998, in order to assure the continued airworthiness of these helicopters in France.

These helicopter models are manufactured in France and are type certificated for operation in the United States under the provisions of § 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of these type designs that are certificated for operation in the United States.

Since an unsafe condition has been identified that is likely to exist or develop on other Eurocopter France Model AS350B, BA, B1, B2, B3, D, and AS355E, F, F1, F2, and N helicopters of the same type designs registered in the United States, the proposed AD would require the following:

• Inspecting Crouzet single-pole circuit breakers, P/N 84 400 028, or P/N 84 400 031 through P/N 84 400 036, installed as part of the emergency flotation gear or other optional installations, for proper operation. Replacing any Crouzet single-pole circuit breaker that is not operating properly with an airworthy circuit breaker.

• Replacing all Crouzet single-pole circuit breakers, P/N 84 400 028, or P/N 84 400 031 through P/N 84 400 036 with airworthy circuit breakers would be required on or before July 1, 2000.

The actions would be required to be accomplished in accordance with the service bulletins described previously.

The FAA estimates that 150 helicopters of U.S. registry would be affected by this proposed AD, that it would take approximately 0.25 work hours per helicopter to replace the circuit breakers, and that the average labor rate is $60 per work hour. Required parts would cost approximately $23 per helicopter. Based on these figures, the total cost impact of the proposed AD on U.S. operators is estimated to be $5,700, assuming the replacement of 150 circuit breakers.

The regulations proposed herein would not have a substantial direct effect on the States, on the relationship between the national government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. 99-SW-36-AD.

Applicability: Model AS350B, BA, B1, B2, B3, D, and AS355E, F, F1, F2, and N helicopters, with Crouzet single-pole circuit breaker, part numbers (P/N) 84 400 028, and P/N 84 400 031 through P/N 84 400 036, installed as part of any optional installations, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent loss of electrical power to the emergency flotation gear or other optional installations and subsequent loss of the helicopter emergency flotation capability, accomplish the following:

(a) On or before 200 hours time-in-service or within the next 3 calendar months, whichever occurs first:

(1) For Model AS350B, BA, B1, B2, B3, and D helicopters, inspect and if inoperable, replace the Crouzet single-pole circuit breakers installed in the flotation gear unit assembly and other optional installations for electrical continuity in accordance with section 2.B. of the Accomplishment Instructions contained in Eurocopter France Service Bulletin (SB) No. 01.00.47, dated November 10, 1998, except disregard the compliance times stated in paragraph 2.B.2) of the SB.

(2) For Model AS355E, F, F1, F2, and N helicopters, inspect and if inoperable, replace the Crouzet single-pole circuit breakers installed in the flotation gear unit assembly and other optional installations for electrical continuity in accordance with section 2.B. of the Accomplishment Instructions contained in SB No. 01.00.44, dated November 10, 1998, except disregard the compliance times stated in paragraph 2.B.2) of the SB.

(b) On or before July 1, 2000, replace all Crouzet single-pole circuit breakers in accordance with section 2.B. of the Accomplishment Instructions of the applicable SB.

(c) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(d) Special flight permits may be issued in accordance with §§ 21.197 and 21.199 of the Federal Aviation Regulations (14 CFR 21.197 and 21.199) to operate the helicopter to a location where the requirements of this AD can be accomplished.

Note 3: The subject of this AD is addressed in Direction Generale De L'Aviation Civile (France) AD 98-510-055(A) for the Model AS 355 helicopters and AD 98-511-074(A) for the Model AS 350 helicopters. Both DGAC AD's are dated December 16, 1998.

Issued in Fort Worth, Texas, on February 11, 2000.
Eric Bries,
Acting Manager, Rotorcraft Directorate, Aircraft Certification Service.

[FR Doc. 00-4264 Filed 2-22-00; 8:45 am]

BILLING CODE 4910-13-U